DEPARTMENT OF TRANSPORTATION

Federal Aviation Administration

14 CFR Part 39

[Docket No. FAA-2018-0413; Product Identifier 2018-NM-061-AD; Amendment 39-19283; AD 2018-10-08]

RIN 2120-AA64

Airworthiness Directives; Boeing Airplanes

AGENCY: Federal Aviation Administration (FAA), DOT.

ACTION: Final rule; request for comments.

SUMMARY: We are superseding Airworthiness Directive (AD) 2016-09-05, which applied to certain The Boeing Company Model 717-200 airplanes. AD 2016-09-05 required a detailed inspection for distress of the vertical stabilizer leading edge skin, and related investigative and corrective actions if necessary. It also required, for certain airplanes, repetitive inspections of the front spar cap for any loose or missing fasteners, or any cracking, and related investigative and corrective actions if necessary. This AD requires repetitive inspections for distress, cracking, and loose or missing fasteners in the vertical stabilizer leading edge skin and front spar cap, with new compliance times for certain airplanes. This AD was prompted by reports of cracking in the leading edge of the vertical stabilizer and front spar web. We are issuing this AD to address the unsafe condition on these products.

DATES: This AD is effective May 31, 2018.

The Director of the Federal Register approved the incorporation by reference of a certain publication listed in this AD as of May 31, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Transport Standards Branch, 2200 South 216th St., Des Moines, WA. For information on the availability of this material at the FAA, call 206-231-3195. It is also available on the internet at http://www.regulations.gov by searching for and locating Docket No. FAA-2018-0413.

Examining the AD Docket

You may examine the AD docket on the internet at http://www.regulations.gov by searching for and locating Docket No. FAA-2018-0413; or in person at Docket Operations between 9 a.m. and 5 p.m., Monday through Friday, except Federal holidays. The AD docket contains this final rule, the regulatory evaluation, any comments received, and other information. The street address for Docket Operations (phone: 800-647-5527) is in the ADDRESSES section. Comments will be available in the AD docket shortly after receipt.

FOR FURTHER INFORMATION CONTACT: Muoi Vuong, Aerospace Engineer, Airframe Section, FAA, Los Angeles ACO Branch, 3960 Paramount Boulevard, Lakewood, CA 90712-4137; phone: 562-627-5205; fax: 562-627-5210; email: muoi.vuong@faa.gov.

SUPPLEMENTARY INFORMATION:

Discussion

We issued AD 2016-09-05, Amendment 39-18503 (81 FR 26673, May 4, 2016) (“AD 2016-09-05”), for certain The Boeing Company Model 717-200 airplanes. AD 2016-09-05 required a detailed inspection for any distress of the vertical stabilizer leading edge skin, and related investigative and corrective actions if necessary. It also required, for certain airplanes, repetitive detailed inspections of the front spar cap for any loose or missing fasteners, repetitive eddy current testing high frequency (ETHF) and radiographic testing (RT) inspections of the front spar cap for any crack, and related investigative and corrective actions if necessary. AD 2016-09-05 resulted from reports of 10 cases of elongated fastener holes in the vertical stabilizer leading edge. We issued AD 2016-09-05 to address cracking in the vertical stabilizer leading edge and front spar cap, which may result in the structure becoming unable to support limit load, and may lead to the loss of the vertical stabilizer.

Actions Since AD 2016-09-05 Was Issued

Since we issued AD 2016-09-05, four cases of elongated fastener holes in the vertical stabilizer leading edge and nine cases of front spar cap damage or cracks were reported. Seven of the nine cases involved small cracks of approximately 0.3 inch in the front spar cap. Two of the nine cases involved a severed front spar cap and front spar web cracking, and one also involved skin cracking. The longest cracks, 4.5 inches in length, were discovered in the left skin of the vertical stabilizer leading edge and the front spar web of a Boeing Model 717-200 airplane during an initial inspection required by AD 2016-09-05. We determined that for airplanes on which an initial inspection has not been done as specified in AD 2016-09-05, a revised compliance time is needed. We are issuing this AD to address the unsafe condition on these products.

Related Service Information Under 1 CFR Part 51

We reviewed Boeing Alert Service Bulletin 717-55A0012, Revision 1, dated April 11, 2018. The service information describes procedures for doing detailed inspections of the front spar cap for any loose or missing fasteners, ETHF or RT inspections for distress and for cracking in the vertical stabilizer leading edge and front spar cap at the splice at station Zfs=52.267, and applicable on-condition actions. This service information is reasonably available because the interested parties have access to it through their normal course of business or by the means identified in the ADDRESSES section.

FAA's Determination

We are issuing this AD because we evaluated all the relevant information and determined the unsafe condition described previously is likely to exist or develop in other products of the same type design.

AD Requirements

Although this AD does not explicitly restate the requirements of AD 2016-09-05, this AD would retain the requirements of AD 2016-09-05, with revised compliance times for airplanes that have not completed the requirements of AD 2016-09-05. The requirements of AD 2016-09-05 are referenced in the service information identified previously, which, in turn, is referenced in paragraph (g) of this AD.

FAA's Justification and Determination of the Effective Date

An unsafe condition exists that requires the immediate adoption of this AD without providing an opportunity for public comment prior to adoption. The FAA has found that the risk to the flying public justifies waiving notice and comment prior to adoption of this rule because cracks in the vertical stabilizer leading edge and front spar cap could result in the structure becoming unable to support limit load, and may lead to the loss of the vertical stabilizer. Therefore, we find good cause that notice and opportunity for prior public comment are impracticable. In addition, for the reason(s) stated above, we find that good cause exists for making this amendment effective in less than 30 days.

Comments Invited

This AD is a final rule that involves requirements affecting flight safety and was not preceded by notice and an opportunity for public comment. However, we invite you to send any written data, views, or arguments about this final rule. Send your comments to an address listed under the ADDRESSES section. Include the docket number FAA-2018-0413 and Product Identifier 2018-NM-061-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects 106 airplanes of U.S. registry. We estimate the following costs to comply with this AD:

Estimated Costs
Action | Labor cost | Parts cost | Cost per product | Cost on U.S. operators
Inspections for distress (retained actions from AD 2016-09-05) | 11 work-hours × $85 per hour = $935 per inspection cycle | $0 | $935 per inspection cycle | $99,110 per inspection cycle.
Repetitive inspections for cracking and loose or missing fasteners (retained actions from AD 2016-09-05) | 7 work-hours × $85 per hour = $595 per inspection cycle | 0 | $595 per inspection cycle | $63,070 per inspection cycle.

The new requirements of this AD add no additional economic burden.

We have received no definitive data that would enable us to provide cost estimates for the on-condition actions specified in this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2016-09-05, Amendment 39-18503 (81 FR 26673, May 4, 2016), and adding the following new AD:

2018-10-08 The Boeing Company: Amendment 39-19283; Docket No. FAA-2018-0413; Product Identifier 2018-NM-061-AD.

(a) Effective Date

This Airworthiness Directive (AD)is effective May 31, 2018.

(b) Affected ADs

This AD replaces AD 2016-09-05, Amendment 39-18503 (81 FR 26673, May 4, 2016) (“AD 2016-09-05”).

(c) Applicability

This AD applies to The Boeing Company Model 717-200 airplanes, certificated in any category, as identified in Boeing Alert Service Bulletin 717-55A0012, Revision 1, dated April 11, 2018.

(d) Subject

Air Transport Association (ATA) of America Code 55, Stabilizers.

(e) Unsafe Condition

This AD was prompted by multiple reports of the vertical stabilizer leading edge showing signs of fastener distress, multiple cracked or severed front spar caps, and cracks in the left skin of the vertical stabilizer leading edge and in the front spar web, discovered during initial inspections required by AD 2016-09-05. We have determined that a revised compliance time is needed for airplanes on which the initial inspection has not been done as specified in AD 2016-09-05. We are issuing this AD to address cracking in the vertical stabilizer leading edge and front spar cap, which may result in the structure becoming unable to support limit load, and may lead to loss of the vertical stabilizer.

(f) Compliance

Comply with this AD within the compliance times specified, unless already done.

(g) Required Actions

Except as required by paragraph (h) of this AD, at the applicable time specified in paragraph 1.E., “Compliance,” of Boeing Alert Service Bulletin 717-55A0012, Revision 1, dated April 11, 2018, do all applicable actions identified as “RC” (required for compliance) in, and in accordance with, the Accomplishment Instructions of Boeing Alert Service Bulletin 717-55A0012, Revision 1, dated April 11, 2018.

(h) Exceptions to Service Information Specifications

(1) For purposes of determining compliance with the requirements of this AD: Where Boeing Alert Service Bulletin 717-55A0012, Revision 1, dated April 11, 2018, uses the phrase “the Revision 1 issue date of this service bulletin,” this AD requires using the effective date of this AD.

(2) Where Boeing Alert Service Bulletin 717-55A0012, Revision 1, dated April 11, 2018, specifies contacting Boeing, and specifies that action as RC: This AD requires repair using a method approved in accordance with the procedures specified in paragraph (j) of this AD.

(i) Credit for Previous Actions

(1) This paragraph provides credit for the initial inspection specified in paragraph (g) of this AD, if that inspection was performed before June 8, 2016 (the effective date of AD 2016-09-05), using Boeing MOM-MOM-14-0437-01B(R1), dated July 3, 2014. This service information is not incorporated by reference in this AD.

(2) This paragraph provides credit for the actions specified in paragraph (g) of this AD, if those actions were performed before the effective date of this AD using Boeing Alert Service Bulletin 717-55A0012, dated June 12, 2015. This service information was incorporated by reference in AD 2016-09-05.

(j) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Los Angeles ACO Branch, to make those findings. To be approved, the repair method, modification deviation, or alteration deviation must meet the certification basis of the airplane, and the approval must specifically refer to this AD.

(4) AMOCs approved previously for AD 2016-09-05 are approved as AMOCs for the corresponding provisions of Boeing Alert Service Bulletin 717-55A0012, Revision 1, dated April 11, 2018, that are required by paragraph (g) of this AD.

(5) Except as required by paragraph (h)(2) of this AD: For service information that contains steps that are labeled as Required for Compliance (RC), the provisions of paragraphs (j)(5)(i) and (j)(5)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

(1) For more information about this AD, contact: Muoi Vuong, Aerospace Engineer, Airframe Section, FAA, Los Angeles ACO Branch, 3960 Paramount Boulevard, Lakewood, CA 90712-4137; phone: 562-627-5205; fax: 562-627-5210; email: muoi.vuong@faa.gov.

(2) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 717-55A0012, Revision 1, dated April 11, 2018.

(ii) Reserved.

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on May 8, 2018.
Jeffrey E. Duven,
Director, System Oversight Division, Aircraft Certification Service.

[FR Doc. 2018-10413 Filed 5-15-18; 8:45 am]

BILLING CODE 4910-13-P